DEPARTMENT OF TRANSPORTATION

Federal Aviation Administration

14 CFR Part 71

[Docket No. FAA-2005-19410; Airspace Docket No. 04-ANM-09]

RIN 2120-AA66

Revision of Federal Airways V-2, V-257 and V-343; MT

AGENCY: Federal Aviation Administration (FAA), DOT.

ACTION: Final rule; correction.

SUMMARY: This action corrects an error in the airspace description of a final rule that was published in the Federal Register on May 18, 2005 (70 FR 28423), Airspace Docket No. 04-ANM-09.

DATES: Effective Date: 0901 UTC, September 1, 2005.

FOR FURTHER INFORMATION CONTACT: Ken McElroy, Airspace and Rules, Office of System Operations and Safety, Federal Aviation Administration, 800 Independence Avenue, SW., Washington, DC 20591; telephone: (202) 267-8783.

SUPPLEMENTARY INFORMATION:

History

On May 18, 2005, Airspace Docket No. 04-ANM-09 was published in the Federal Register (70 FR 28423), revising VOR Federal Airway 257 (V-257) in MT. In that rule, the airspace description was incomplete. This action corrects that error.

Correction to Final Rule

Accordingly, pursuant to the authority delegated to me, the legal description for V-257, MT, as published in the Federal Register on May 18, 2005 (70 FR 28423), and incorporated by reference in 14 CFR 71.1, is corrected as follows:

PART 71—[Amended]

§ 71.1

Paragraph 6010(a) Domestic Federal Airways

* * * * *

V-257 [Corrected]

From Phoenix, AZ, via INT Phoenix 348° and Drake, AZ, 141° radials; Drake; INT Drake 003° and Grand Canyon, AZ, 211° radials; Grand Canyon; 38 miles 12 AGL, 24 miles 125 MSL, 16 miles 95 MSL, 26 miles 12 AGL, Bryce Canyon, UT; INT Bryce Canyon 338° and Delta, UT, 186° radials, Delta; 39 miles, 105 MSL INT Delta 004° and Malad City, ID, 179° radials; 20 miles, 118 MSL, Malad City; Pocatello, ID; DuBois, ID; Dillon, MT; Coppertown, MT; INT Coppertown 002° and Great Falls, MT, 222° radials; Great Falls; 73 miles, 56 MSL, Havre, MT. The airspace within Restricted Area R-6403 is excluded.

* * * * *

Issued in Washington, DC, on June 27, 2005.
Edith V. Parish,
Acting Manager, Airspace and Rules.

[FR Doc. 05-13084 Filed 6-30-05; 8:45 am]

BILLING CODE 4910-13-P